ENVIRONMENTAL PROTECTION AGENCY

[ER-FRL-9004-4]

Environmental Impacts Statements; Notice of Availability

Responsible Agency: Office of Federal Activities, General Information (202) 564-7146 or http://www.epa.gov/compliance/nepa/

Weekly receipt of Environmental Impact Statements

Filed 07/30/2012 Through 08/03/2012

Pursuant to 40 CFR 1506.9.

Notice

Section 309(a) of the Clean Air Act requires that EPA make public its comments on EISs issued by other Federal agencies. EPA's comment letters on EISs are available at: http://www.epa.gov/compliance/nepa/eisdata.html.

Information

Starting October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp

EIS No. 20120257, Final EIS, BR, CA, San Joaquin River Restoration Program, A Comprehensive Long-Term Effort to Restore Flows to the San Joaquin River from Friant Dam to the Confluence of Merced River and Restore a Self-Sustaining Chinook Salmon Fishery in the River while Reducing or Avoiding Adverse Water Supply Impacts from Interim and Restoration Flows, Implementation, CA, Review Period Ends: 09/10/2012, Contact: Michelle Banonis 916-978-5457.

EIS No. 20120258, Draft EIS, USN, CA, LEGISLATIVE—Renewal of Naval Air Weapons Station China Lake Public Land Withdrawal, To Conduct Research, Development, Acquisition, Test and Evaluation Activities, Kern, Inyo, and San Bernardino Counties, CA, Comment Period Ends: 11/08/2012, Contact: Gene Beale 619-532-1027.

EIS No. 20120259, Final EIS, MARAD, CA, ADOPTION—Middle Harbor Redevelopment Project, Funding, Port of Long Beach, Los Angeles County, CA, Review Period Ends: 09/10/2012, Contact: Kristine Gilson 202-366-1969. The U.S. Department of Transportation's Maritime Administration (MARAD) has adopted the U.S. Corps of Engineers final EIS filed 5/21/2008. The MARAD was not a cooperating agency for the above final EIS. Recirculation of the document is necessary under Section 1506.3(b) of the Council on Environmental Quality Regulations.

EIS No. 20120260, Final EIS, USFS, NE., Allotment Management Planning in the McKelvie Geographic Area Project, Managing Livestock Grazing, Bessey Ranger District, Samuel R. McKelvie National Forest, Cherry County, NE., Review Period Ends: 09/10/2012, Contact: Michael Croxen 308-533-2257.

EIS No. 20120261, Final EIS, USFS, CO, Federal Coal Lease Modifications COC-1362 and COC 67232, Adding 800 and 921 Additional Acres, Paonia Ranger District, Grand Mesa, Uncompahgre and Gunnison National Forests, Gunnison County, CO, Review Period Ends: 09/10/2012, Contact: Niccole Mortenson 406-329-3163.

EIS No. 20120262, Draft EIS, BR, CA, San Luis Reservoir State Recreation Area Resource Management Plan/General Plan, Implementation, Vicinity of Los Banos, CA, Comment Period Ends: 10/05/2012, Contact: Dave Woolley 559-487-5049.

EIS No. 20120263, Final EIS, USFS, BLM, CA, Barren Ridge Renewable Transmission Project, Construct, Operate, Maintain and Upgrade 220kV Electrical Transmission Lines and Switching Stations, Kern and Los Angeles Counties, CA, Contact: Justin Seastrand, 626-574-5278(AFS) or Lynette Elser 951-697-5233(BLM).

The U.S. Department of Agriculture's Forest Service and the U.S. Department of the Interior's Bureau of Land Management are joint lead agencies for this project.

The U.S. Forest Service has a formally established appeal process which allows other agencies or the public to appeal a decision after publication of the final EIS. More information on this appeal process is available at http://www.ladwp.com/barrenridge.

Dated: August 7, 2012.
Cliff Rader,
Director, NEPA Compliance Division, Office of Federal Activities.

[FR Doc. 2012-19687 Filed 8-9-12; 8:45 am]

BILLING CODE 6560-50-P